DEPARTMENT OF EDUCATION

National Institute on Disability and Rehabilitation Research (NIDRR)—Disability and Rehabilitation Research Projects and Centers Program—Rehabilitation Research and Training Centers (RRTCs) and Rehabilitation Engineering Research Centers (RERCs)

Catalog of Federal Domestic Assistance (CFDA) Numbers: 84.133B Rehabilitation Research and Training Centers and 84.133E Rehabilitation Engineering Research Centers.

AGENCY: Office of Special Education and Rehabilitative Services (OSERS), Department of Education.

ACTION: Notice of final priorities (NFP) for RRTCs and RERCs.

SUMMARY: The Assistant Secretary for Special Education and Rehabilitative Services announces certain funding priorities for the Disability and Rehabilitation Research Projects and Centers Program administered by NIDRR. Specifically, this notice announces four priorities for RRTCs and three priorities for RERCs. The Assistant Secretary may use these priorities for competitions in fiscal year (FY) 2009 and later years. We take this action to focus research attention on areas of national need. We intend these priorities to improve rehabilitation services and outcomes for individuals with disabilities.

DATES: Effective Date: These priorities are effective August 27, 2009.

FOR FURTHER INFORMATION CONTACT: Donna Nangle, U.S. Department of Education, 400 Maryland Avenue, SW., Room 6029, Potomac Center Plaza, Washington, DC 20202-2700. Telephone: (202) 245-7462 or by e-mail: donna.nangle@ed.gov.

If you use a telecommunications device for the deaf (TDD), call the Federal Relay Service (FRS), toll free, at 1-800-877-8339.

SUPPLEMENTARY INFORMATION: This NFP is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice announces priorities that NIDRR intends to use for RRTC and RERC competitions in FY 2009 and possibly later years. However, nothing precludes NIDRR from publishing additional priorities, if needed. Furthermore, NIDRR is under no obligation to make an award for each of these priorities. The decision to make an award will be based on the quality of applications received and available funding.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended.

Program Authority: 29 U.S.C. 762(g), 764(a), 764(b)(2), and 764(b)(3).

Applicable Program Regulations: 34 CFR part 350.

We published a notice of proposed priorities (NPP) for this program in the Federal Register on May 7, 2009 (74 FR 21338). That notice contained background information and our reasons for proposing the particular priorities. This information may be useful for applicants in preparing their applications.

There are several significant differences between the NPP and this NFP, as discussed in the Analysis of Comments and Changes section elsewhere in this notice.

Public Comment: In response to our invitation in the NPP, 80 parties submitted comments on the proposed priorities.

We discuss substantive issues under the priorities to which they pertain. Generally, we do not address technical and other minor changes or suggested changes the law does not authorize us to make under the applicable statutory authority. In addition, we do not address general comments that raised concerns not directly related to the proposed priorities.

Analysis of Comments and Changes: An analysis of the comments and of any changes in the priorities since publication of the NPP follows.

General

Comment: One commenter noted that it is important for RRTC and RERC applicants to be aware of the concerns, needs, and strengths of individuals from diverse backgrounds (based on gender, race, ethnicity, and age), and appropriately address these within their proposed programs.

Discussion: NIDRR agrees that it is important for grantees in the RRTC and RERC programs to address the needs of individuals with disabilities from diverse backgrounds. In order to maximize the utility of grant products, RRTC and RERC activities should take into account differences in the needs of individuals with disabilities, based on their gender, race, ethnicity, age, and other important characteristics. However, we do not believe it is necessary to require each grantee to address all of these factors. The peer review process will determine the merits of each proposal. We also note that NIDRR requires all RRTCs to demonstrate in their applications how they will address, in whole or in part, the needs of individuals with disabilities from minority backgrounds.

Changes: None.

RRTCs

Priority 1—Improved Employment Outcomes for Individuals With Psychiatric Disabilities

Comment: One commenter expressed an interest in implementing statewide supported employment programs that assist people with psychiatric disabilities to enter the workforce.

Discussion: Under Title II of the Rehabilitation Act of 1973, as amended, NIDRR has the authority to sponsor research, demonstration projects, training, and related activities. NIDRR does not have the authority to fund the direct implementation of employment programs. However, paragraph (a)(3) of the priority does require applicants to develop, test, and validate adaptations of evidence-based interventions for individuals from traditionally underserved groups, and specifically mentions supported employment as an example of an evidence-based practice. Nothing in the priority precludes an applicant from focusing on supported employment when conducting activities under this priority. The peer review process will determine the merits of each proposal.

Changes: None.

Comment: One commenter requested clarification on the phrase “scientifically based research” and asked how the definition of this phrase may impact the type of research design permitted in the applications.

Discussion: Under this priority, scientifically based research must be used to identify or develop, and test, innovative interventions and employment accommodations. We are using the definition of “scientifically based research” from section 9101(37) of the Elementary and Secondary Education Act of 1965, as amended. This definition emphasizes the use of experimental or quasi-experimental designs in which individuals, entities, programs, or activities are assigned to different conditions and with appropriate controls to evaluate the effects of the condition of interest, with a preference for random-assignment experiments. NIDRR believes that experimental research designs are appropriate for research that involves identifying or developing, and testing, interventions or accommodations, but are not necessarily appropriate for research activities of a more exploratory nature. Therefore, scientifically based research is explicitly required under paragraph (a)(1) of this priority.

Changes: None.

Comment: One commenter suggested that projects under this priority should conduct research on the full range of transition, systems, and needs (e.g., housing, transportation, money management, and performance of daily life activities) leading up to and supporting employment for people with psychiatric disabilities.

Discussion: The priority requires the RRTC to contribute to improved models, programs, and interventions to enable individuals with psychiatric disabilities to obtain, retain, and advance in competitive employment of their choice. Nothing in the priority precludes an applicant from focusing on one or more of the topics identified by the commenter. We do not believe it is necessary to require that an applicant focus on all of those topics. The peer review process will determine the merits of each proposal.

Changes: None.

Comment: One commenter stated that occupational therapists could work with vocational rehabilitation (VR) and other professionals to address employment-related factors so that individuals with psychiatric disabilities will be more prepared for tasks related to employment and independent living.

Discussion: Nothing in the priority precludes an applicant from including a focus on the role of occupational therapists in the research on improved models, programs, and interventions in paragraph (a)(1) of the priority, or in the research on effective partnerships between VR and other agencies and mental health groups in paragraph (a)(2). The peer review process will determine the merits of each proposal.

Changes: None.

Priority 2—Transition-Age Youth and Young Adults With Serious Mental Health Conditions

Comment: Forty-five commenters noted that the proposed priority did not address questions regarding serious mental health conditions in children younger than the age of 14. These commenters stated that many mental, emotional, and behavioral disorders have their onset before this age.

Discussion: We recognize that many mental, emotional, and behavior disorders begin when children are much younger than age 14. However, it is not possible to address all age groups and conditions in a single RRTC. In developing this priority, NIDRR considered the state of the science, major Federal reports and initiatives, and priorities of the Department of Education, which included an emphasis on transition to adulthood. The decision to fund research addressing the needs of the target population (i.e., individuals between the ages of 14 and 30, inclusive) is a strategic one, based on a need for knowledge in this area.

Changes: None.

Comment: Four commenters requested that the priority include families as a critical component of research.

Discussion: NIDRR agrees that families are critical to the outcomes of children and young adults with serious mental health conditions. The priority requires research on family-guided care. In addition, paragraph (a) of the priority specifically requires family involvement in the processes of identifying, or developing, and evaluating interventions. We believe these provisions adequately address the concern raised by the commenters.

Changes: None.

Comment: One commenter suggested that the research conducted under this priority should focus on policy and financing issues related to mental health disparities in the access, availability, and quality of services, and associated outcomes for children, youth, and families of color.

Discussion: NIDRR agrees that research on policy and financing issues related to mental health disparities for children and youth of color would be an important addition to the research literature. Applicants may propose such research under paragraph (c) of the priority, which requires research on the financial, policy, and other barriers to integration of youth and adult mental health systems. However, we have no basis for requiring all applicants to propose such research. In addition, the Department believes that limiting the research in this way would preclude applicants from proposing valuable research on the broader issues related to interventions and system coordination that would benefit all transition-aged youth with disabilities, including those from minority backgrounds. As described in the priority, research on this or other topics must focus on the experiences of youth and young adults between the ages of 14 and 30.

Changes: None.

Comment: One commenter noted that in May 2007, NIDRR convened a panel of experts on child and adolescent mental health that made a series of research recommendations, which are not addressed in the proposed priority. The commenter asked why panel recommendations in the areas of early intervention and screening, schools and education, family and community supports, systems of care, and diversity and cultural competence were not named as the focus of the priority.

Discussion: In determining priority topics, NIDRR uses a number of inputs, including but not limited to: NIDRR's analysis of the state of the science; input from experts in the field (e.g., the 2007 expert panel on child and adolescent mental health); work produced by NIDRR's RRTCs; work sponsored by other agencies; major Federal reports and initiatives; and leadership initiatives at the Department of Education.

Although the priority does not focus exclusively on the topics recommended by the 2007 expert panel, it does incorporate several of the panel's recommendations. For example, the priority requires the RRTC to utilize recovery-based outcome measures, including education and community integration. In addition, the priority requires the development of new knowledge in a number of areas recommended by the panel, including knowledge about youth and young adults with serious mental health conditions who are from disadvantaged backgrounds, a focus on family and consumer-guided care, and systems coordination.

Changes: None.

Comment: One commenter recommended that the priority address the building of skills needed to achieve recovery-based outcomes.

Discussion: NIDRR agrees that these skills are important to recovery and positive outcomes. Nothing in the priority precludes an applicant from proposing interventions research that highlights the building of skills needed to achieve recovery-based outcomes under paragraphs (a) and (b). However, NIDRR does not have a sufficient basis for requiring all applicants to propose such interventions. The peer review process will determine the merits of each proposal.

Changes: None.

Comment: One commenter recommended that research under this priority focus on the development of protocols for schools to bring together resources that help ensure safe and effective transition.

Discussion: NIDRR agrees that school-based protocols can be useful in promoting safe and effective transition for youth with serious mental health conditions. Such protocols could play a role in interventions research under paragraphs (a) and (b) of the priority or in systems integration research under paragraph (c). Nothing in the priority precludes an applicant from proposing research on school-based protocols. However, NIDRR does not have a sufficient basis for requiring all applicants to do so. The peer review process will determine the merits of each proposal under this priority.

Changes: None.

Priority 3—Improving Measurement of Medical Rehabilitation Outcomes

Comment: Two commenters suggested that by specifically requiring the RRTC to develop measures of cognition and “environmental factors” under paragraph (a) of the priority NIDRR is limiting the range of innovative applications that might be received under this priority. The commenters suggested that applicants be invited to address any of the seven research recommendations from the NIDRR-sponsored Post-Acute Rehabilitation Symposium in 2007.

Discussion: NIDRR has made the development of measures of cognitive function and measures to assess environmental factors a priority because adequate measures of these factors have not been developed for systemic application in the field of medical rehabilitation. Cognition is both a rehabilitation outcome and a factor related to broader functional and community outcomes for individuals with a wide variety of disabling conditions. Better measures of the environment are required to facilitate emerging research on the influence of environmental factors on medical rehabilitation outcomes.

Paragraph (a) of the priority also permits an RRTC to develop medical rehabilitation outcome measures in other areas where a demonstrated need has been identified in the literature. This flexibility allows applicants to propose development of outcomes measures in additional areas, including other areas identified in the proceedings of the Post Acute Care Symposium. The peer review process will determine the merits of each proposal under this priority.

Changes: None.

Comment: One commenter suggested that the priority require development of measures of physical function.

Discussion: NIDRR agrees that measures of physical function are important in the field of medical rehabilitation research. NIDRR has sponsored the development of key measures of physical function, which are now widely used in the field. Nothing in this priority prohibits applicants from proposing the development of additional measures of physical function. The peer review process will determine the merits of each proposal.

Changes: None.

Comment: One commenter suggested that NIDRR revise the priority to encourage the application of newly developed measures to assess the effectiveness of rehabilitation or to compare the effectiveness of different rehabilitation approaches.

Discussion: The primary purpose of this priority is to develop outcome measures and data collection methods that improve the quality of disability and rehabilitation research related to medical rehabilitation. While we intend that the new outcome measures be used in the field, the application of new measures to assess the effectiveness of rehabilitation services is beyond the scope of this priority.

Changes: None.

Comment: One commenter suggested that NIDRR should specify that simple, valid, and reliable methods for characterizing cognitive function of rehabilitation patients is needed and that the new measure of cognition should be broader, better, and more reliable than the cognitive subscale of the Functional Independence Measure (FIM).

Discussion: In paragraph (a) of the priority, NIDRR emphasizes the specific need for valid and reliable measures of cognition, data collection efficiency, and the applicability of measures across a wide variety of rehabilitation settings and disability groups. NIDRR agrees that the cognitive subscale of the FIM is an important benchmark in the field. However, we have no basis for requiring that all applicants use the FIM as a reference point as they develop new measures of cognition. Applicants may discuss the merits of their proposed measures, relative to the cognitive subscale of the FIM or any other relevant existing measure.

Changes: None.

Comment: One commenter asked NIDRR to specify whether we are prioritizing measures of the environment that focus on the characteristics of rehabilitation settings or on the characteristics of the social and physical environments to which rehabilitation patients are discharged.

Discussion: Paragraph (a) of the priority states that the RRTC must develop valid and reliable measures to assess environmental factors that affect outcomes among individuals with disabilities living in the community. NIDRR understands that characteristics of rehabilitation settings and characteristics of the home and community environment may affect outcomes. Applicants may propose and justify the development of measures in either, or both, settings.

Changes: None.

Comment: One commenter noted that computer adaptive testing (CAT) and item response theory may not be applicable to some key measurement areas, including measurement of the environment. This commenter suggested that we revise the priority to clarify that data collection strategies should be determined by the state of the science and that other data collection strategies may apply in some measurement domains.

Discussion: The priority does not endorse CAT as a universal approach for measurement. Rather, the priority calls for applicants to include item response theory and CAT techniques as strategies. Nothing in this priority prohibits applicants from proposing strategies in addition to these two. However, we acknowledge that our intent in this area may not be clear.

Changes: We have revised paragraph (a) of the priority to clarify that data collection strategies for newly developed measures must include, but are not limited to, item response theory and CAT techniques, as appropriate.

Comment: One commenter recommended that applicants be required to develop rehabilitation measures via research methods that are theory-based, with particular attention on reduction of measurement error and enhancement of precision. This commenter also recommended that measures developed under this priority should generate clinically useful information.

Discussion: NIDRR agrees that these are important considerations when developing rehabilitation outcome measures. However, we do not believe it is necessary for the priority to specify the role of theory-based methods of measure development. Applicants' attention to issues such as these will be considered during peer review. The peer review process will determine the merits of each proposal under this priority.

Changes: None.

Comment: One commenter recommended that the priority require research on methods for linking payment for post-acute rehabilitation to rehabilitation outcomes, across post-acute settings of care.

Discussion: NIDRR agrees that linking payment for post-acute rehabilitation to rehabilitation outcomes is an important issue. However, the purpose of this priority is to improve measurement of medical rehabilitation outcomes. Development of methods for establishing an outcomes-based rehabilitation payment system is beyond the scope of this priority.

Changes: None.

Comment: One commenter recommended that the priority ensure that individuals from a broad range of professions and interests be allowed to participate in the training to ensure comprehensive coverage of the full range of rehabilitation.

Discussion: NIDRR agrees that it would be beneficial to have individuals from a broad range of professions participate in the training.

Changes: We have revised the last sentence of paragraph (b) of the priority to require, where appropriate, the inclusion of multidisciplinary approaches from a broad range of professions and interests in the program of training.

Priority 4—Developing Strategies To Foster Community Integration and Participation for Individuals With Traumatic Brain Injury

Comment: Three commenters noted that development of improved tools for traumatic brain injury (TBI) research, required under paragraphs (a) and (b) of the proposed priority, would reduce grant resources that should be spent on testing interventions to promote community integration and participation.

Discussion: NIDRR agrees that there is a great need for community integration and participation (CIP) interventions in TBI. Our reading of the research literature suggests that better characterization of symptom variations within research samples might contribute substantially to improved accumulation of knowledge regarding the effectiveness of interventions. In response to the concerns of commenters that it would be difficult for one RRTC both to develop and test interventions and to develop a TBI classification system, we reordered the priority requirements to emphasize the testing of interventions and we eliminated some of the prescriptive requirements related to the development of a TBI classification system. Although we reduced the number of requirements for the development of a TBI classification system, we expect applicants to propose and justify the steps they will take to accomplish this task. The peer review process will determine the merits of each proposal.

Changes: We have revised the priority by reordering the priority requirements, eliminating the requirement for expert input into the classification system, and eliminating the requirement for the development of a manual for use of the classification system. Also, in response to this comment and related comments, discussed below in greater detail, we have revised the priority by decoupling the testing of interventions from the classification system, eliminating the numerous examples of symptoms, eliminating the requirement for a short version of the classification system, and eliminating the requirement for a literature review.

Comment: Three commenters stated that the sequential nature of the priority makes the timeline for required activities infeasible. Two of these commenters suggested that the research tools required under paragraphs (a) and (b) of the priority be developed concurrently with the interventions research conducted under paragraph (c) instead of having the testing of interventions be tied to the development of the research tools. One of these commenters asked about the logistical difficulty of reviewing and funding interventions research, which would not be developed and specified until after the completion of the research tools.

Discussion: NIDRR agrees that the sequential nature of the required activities as presented in the proposed priority may substantially reduce the time available to conduct research on the TBI interventions.

Changes: We have revised the priority by eliminating the requirement that the testing of interventions be tied to the classification system.

Comment: Three commenters stated that the development of a symptom-based classification of individuals with TBI is not feasible. These commenters noted that the large number of TBI symptoms and the uniqueness of every individual with TBI preclude meaningful classification.

Discussion: NIDRR understands that there are numerous TBI symptoms, and that every individual with TBI has unique circumstances and experiences. However, this does not preclude the development of tools to help broadly classify individuals with TBI according to the TBI symptoms that they experience. Through collection and analysis of data by researchers and clinicians, this RRTC can determine the prevalence of relevant clusters of TBI symptoms.

Changes: None.

Comment: One commenter stated that the general practice among TBI researchers of using inclusion and exclusion criteria to enroll appropriate individuals into research projects is adequate. The commenter also stated that the symptom classification required under paragraph (c) of the priority is not useful for this purpose.

Discussion: NIDRR agrees that clear and appropriate inclusion and exclusion criteria are essential in the field of disability research. However, individuals with similar severity of injury or cognitive function can have a wide range of symptoms that is not specified in the inclusion or exclusion criteria. This range can affect the impact of interventions, limit the ability to compare the findings of different studies, and make it unclear whether the findings can be generalized. A TBI symptom classification can serve as a tool for identifying important variations within samples, promote comparability of studies, and clarify the extent to which findings can be generalized to the larger population of individuals with TBI.

Changes: None.

Comment: Two commenters suggested that the symptom classification to be developed for this priority is potentially duplicative of an emerging effort to develop a classification of individuals with TBI based on the International Classification of Functioning, Disability, and Health (ICF). However, one of these commenters noted that the sample size planned by this group could limit its ability to generate adequate information about infrequent yet important TBI symptoms.

Discussion: We do not believe that the classification to be developed under this priority will be duplicative of the effort based on the ICF. NIDRR's focus on a symptom-based classification related to CIP should support the development of this broader classification activity. Applicants may propose methods that are in concert with this ICF effort or other methods of creating a symptom-based classification of individuals with TBI, as appropriate.

Changes: None.

Comment: Two commenters stated that the requirement in the priority that the grantee review the literature on barriers to CIP among individuals with TBI is unnecessary. These commenters stated that the review of literature on barriers to CIP is likely to be redundant with the effort to develop a list of symptoms because TBI symptoms are often CIP barriers for this population.

Discussion: NIDRR agrees that the literature on barriers to CIP may be significantly related to the list of TBI symptoms; in fact, NIDRR believes this relationship strengthens the importance of reviewing current and relevant literature. However, NIDRR feels that requiring a literature review under this priority is unnecessarily prescriptive. Applicants' plans for conducting and incorporating such a literature review into the RRTC's activities will be considered during peer review. The peer review process will determine the merits of each proposal under this priority.

Changes: We have revised the priority by removing the requirement for a literature review.

Comment: One commenter noted that the expertise necessary to create a TBI classification system under paragraphs (a) and (b) of the priority is different from the expertise required to carry out TBI interventions research under paragraph (c). The commenter stated that it may be difficult for an RRTC to have staff with this diverse expertise.

Discussion: NIDRR recognizes that an RRTC developing a TBI classification system and conducting high-quality intervention studies is likely to require staff with varying expertise. We would expect that an RRTC would have this diversity. In addition, as stated in its Long Range Plan, NIDRR expects RRTCs to be multidisciplinary, i.e., able to combine the strengths and perspectives of researchers from multiple disciplines and areas of expertise. (See 71 FR 8166, 8177.)

Changes: None.

Comment: One commenter suggested that NIDRR should publish a less prescriptive priority that would allow applicants more latitude to propose innovative research topics. This commenter and one other suggested a number of potentially innovative topics that could be proposed under such a priority. The suggested topics included testing cognitive rehabilitation interventions; assessing the use of computer-mediated networking technologies; developing new tools for measuring CIP; reviewing literature on CIP related interventions; and developing strategies to improve employment outcomes among individuals with TBI.

Discussion: NIDRR agrees that research on these topics may generate new knowledge about CIP among individuals with TBI. Many of these topics are appropriate for development under paragraph (a) of the priority that requires testing of interventions to improve CIP among individuals with TBI. Applicants may propose these topics. The peer review process will determine the merits of each proposal.

Changes: None.

Comment: One commenter asked for clarification of NIDRR's intent related to the requirement to “empirically validate” the required list of TBI symptoms. This commenter noted that the time and resources required to validate the symptom list could vary greatly, depending on the applicants' approach to the task.

Discussion: Empirical validation is the use of data to demonstrate the intended utility of a tool. Applicants must propose and justify their approach to the validation of the TBI symptom list. The peer review will determine the merits of each proposal under this priority.

Changes: None.

Comment: One commenter asked what it means for applicants to “provide or develop effective and practical methods” for the identification of TBI symptoms. This commenter noted that there are no practical and effective methods for identifying many TBI symptoms.

Discussion: We recognize that it may not be feasible to provide an effective and practical method for identifying each TBI symptom. We expect that applicants will provide the most appropriate methods that are available for this purpose.

Changes: We have revised the priority by requiring that the methods for identification of TBI symptoms be appropriate, rather than effective and practical.

Comment: One commenter noted that the list of symptoms in paragraph (a) of the proposed priority included not just symptoms, but diseases, diagnoses, and a number of “problems” that people may experience after TBI.

Discussion: We agree that this list is unclear. We believe that applicants should propose and justify their own list of TBI symptoms.

Changes: We have revised the priority by eliminating specific examples of the four major categories of symptoms named in the priority.

Comment: One commenter asked NIDRR to clarify its intent with regard to the “short version” of the classification system required under paragraph (b)(2) of the proposed priority. The commenter noted that valid and reliable short diagnostic tests do not exist for most TBI symptoms and that existing diagnostic tools are generally copyrighted. This commenter also noted that development of “short versions” of methodological tools is generally cost-prohibitive within a limited five-year budget.

Discussion: We agree that development of a short version of the TBI symptom classification system can be logistically complex and could absorb a disproportionate share of the Center's resources.

Changes: We have revised the priority by removing the requirement for a short version of the TBI classification system.

Comment: One commenter suggested that systematic reviews are a feasible and more traditional method for achieving the priority's aim of linking interventions to TBI symptoms.

Discussion: We decoupled the interventions-testing requirement from the requirement to develop a symptom-based TBI classification system. The linking of interventions to TBI symptoms is no longer an explicit requirement for RRTCs under this priority. However, one aim of a TBI classification system, generally, is to allow better targeting of interventions to specific symptoms. Applicants may propose a systematic review in support of the requirements of this priority. However, we have no basis for requiring all applicants to do so. The peer review process will determine the merits of each proposal.

Changes: None.

Comment: One commenter stated that, in addition to its current focus on symptoms of TBI and barriers to CIP, the priority should focus on strengths of individuals with TBI and facilitators of CIP.

Discussion: NIDRR agrees that it is important to highlight the strengths of individuals with TBI and the facilitators of their CIP. The introductory paragraph of the priority refers to examining barriers to and facilitators of CIP for individuals with disabilities. The remainder of the priority refers to interventions that facilitate CIP for individuals with TBI. We believe that the revised priority strikes the appropriate balance between barriers to and facilitators of CIP.

Changes: None.

Comment: One commenter stated that the incidence of TBI is greater, yet access to rehabilitation services is lower, among minority populations. While recognizing that NIDRR requires all RRTCs to demonstrate how they will address the needs of individuals with disabilities from minority backgrounds, this commenter recommended that NIDRR add a specific requirement for this RRTC regarding the inclusion of minorities and individuals from diverse educational and socioeconomic backgrounds in research samples.

Discussion: NIDRR believes that requiring RRTCs to demonstrate how they will address the needs of individuals with disabilities from minority backgrounds is sufficient to promote appropriately diverse research samples under this priority. Applicants may propose and justify sample characteristics that are appropriate to their proposed research. The peer review process will determine the merits of each proposal.

Changes: None.

Comment: One commenter recommended additional requirements for the symptom-based classification system, and specifically that the system include information about the environmental context in which symptoms are experienced. This commenter noted that information about the contexts in which symptoms are experienced will help inform the design of a symptom-based classification system and effective interventions.

Discussion: We agree that additional information of this nature may be useful in the development of a TBI classification system and TBI interventions. However, we have no basis for requiring all applicants to do so. The peer review process will determine the merits of each proposal.

Changes: None.

RERCs

Priority 5—Telerehabilitation

Comment: One commenter noted that mobile monitoring of gait and vision and home monitoring may be the future of fall and accident prevention for individuals with disabilities.

Discussion: NIDRR recognizes that mobile monitoring of gait and vision and home monitoring may be an important aspect of telerehabilitation. The priority allows applicants the discretion to propose research on mobile monitoring of gait and vision and home monitoring. However, NIDRR has no basis for requiring that all applicants do so.

Changes: None.

Comment: One commenter suggested that NIDRR expand the priority to include non-real time telerehabilitation applications.

Discussion: NIDRR recognizes that the use of non-real time methods can play a role in effective telerehabilitation services. We agree that applicants should be permitted to propose research on and development of technologies that support a variety of interventions, regardless of whether or not those interventions are to be delivered in real time. The peer review process will determine the merits of each proposal.

Changes: We have revised the priority by removing the requirement that telerehabilitation applications be in real time.

Comment: One commenter noted that there is no need for a one-size-fits-all solution for telerehabilitation infrastructure and architecture. The commenter noted that technology needs will vary considerably, based on unique needs of a diverse target population of individuals with disabilities.

Discussion: NIDRR does not intend to imply a one-size-fits-all solution for telerehabilitation infrastructure and architecture. The requirement that the RERC contribute to the continuing development of “a” telerehabilitation infrastructure and architecture may have led to this interpretation.

Changes: We have revised the priority by removing the first indefinite article (“a”) from the second sentence.

Comment: One commenter suggested that NIDRR more clearly define the meaning of “barriers” to telerehabilitation and “limited access” to rehabilitation. The commenter specifically suggested geography, physical immobility, clinician shortages, transportation, lack of reimbursement, licensure, and lack of appropriate technology as barriers that should be addressed by the RERC.

Discussion: NIDRR agrees that these can be important barriers to successful telerehabilitation and can affect access to rehabilitation services. However, NIDRR has no basis for requiring all applicants to address these specific barriers to rehabilitation services. NIDRR expects applicants to identify and justify the barriers upon which they will focus. The peer review process will determine the merits of each proposal.

Changes: None.

Comment: One commenter stated that one of the greatest obstacles to the large-scale implementation of telerehabilitation service delivery is a lack of reimbursement. This commenter suggested that NIDRR require applicants to promote reimbursement of telerehabilitation services. A second commenter also emphasized the importance of economic and reimbursement barriers to telerehabilitation.

Discussion: NIDRR agrees that lack of reimbursement can be an important barrier to use of telerehabilitation on a larger scale. Nothing in the priority precludes an applicant from focusing on this issue in its proposal. However, NIDRR has no basis for requiring all applicants to conduct research and development activities related to telerehabilitation reimbursement. The peer review process will determine the merits of each proposal.

Changes: None.

Comment: One commenter asked if NIDRR intends the scope of this RERC to include clinical studies with large patient cohorts or policy and economic studies to determine factors such as cost effectiveness or reimbursement by health care systems.

Discussion: This comment referred to the content provided in the background statement for this priority. Although the background statement suggested the importance of these types of research, the priority does not require that the RERC perform large-scale clinical studies or policy and economic studies related to telerehabilitation.

Changes: None.

Comment: One commenter emphasized the importance of usability testing when developing telerehabilitation products.

Discussion: NIDRR agrees that usability testing is important. In development activities, RERCs must work directly with individuals with disabilities and their relevant representatives. Although this requirement does not specifically require usability testing, such testing regularly occurs in the development of technologies within the RERCs. However, we have no basis for requiring all applicants to do so. The peer review process will determine the merits of each proposal.

Changes: None.

Priority 7—Cognitive Rehabilitation

Comment: One commenter noted that the proposed priority did not mention a more holistic approach to improve cognitive function, which may include cognitive training therapies and exercise therapy.

Discussion: NIDRR agrees that holistic approaches and therapies may help improve cognitive function. However, the purpose of this priority is to contribute to the development and testing of assistive technology products that enhance cognitive functions needed to perform daily tasks at home, school, work, and in the community. Research on cognitive or exercise therapies are beyond the scope of this priority.

Changes: None.

Final Priorities

In this notice, we are announcing four priorities for RRTCs and three priorities for RERCs.

For RRTCs, the final priorities are:

• Priority 1—Improved Employment Outcomes for Individuals With Psychiatric Disabilities.

• Priority 2—Transition-Age Youth and Young Adults With Serious Mental Health Conditions.

• Priority 3—Improving Measurement of Medical Rehabilitation Outcomes.

• Priority 4—Developing Strategies to Foster Community Integration and Participation for Individuals With Traumatic Brain Injury.

For RERCs, the final priorities are:

• Priority 5—Telerehabilitation.

• Priority 6—Telecommunication.

• Priority 7—Cognitive Rehabilitation.

RRTC Program

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a NFP in the Federal Register on February 1, 2008 (72 FR 6132).

Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Final Priorities

Priority 1—Improved Employment Outcomes for Individuals With Psychiatric Disabilities

The Assistant Secretary for Special Education and Rehabilitative Services announces a priority for a Rehabilitation Research and Training Center (RRTC) on Improved Employment Outcomes for Individuals with Psychiatric Disabilities. The RRTC must conduct rigorous research, training, technical assistance, and knowledge translation activities that contribute to improved employment outcomes for individuals with psychiatric disabilities. Under this priority, the RRTC must be designed to contribute to the following outcomes:

(a) Improved models, programs, and interventions to enable individuals with psychiatric disabilities to obtain, retain, and advance in competitive employment of their choice. The RRTC must contribute to this outcome by—

(1) Identifying or developing, and testing, innovative interventions and employment accommodations using scientifically based research (as this term is defined in section 9101(37) of the Elementary and Secondary Education Act of 1965, as amended). These interventions and employment accommodations must include an emphasis on consumer control, peer supports, and community living, and address the needs of individuals from traditionally underserved groups (e.g., individuals from diverse racial, ethnic, and linguistic backgrounds, and different geographic areas, and individuals with multiple disabilities).

(2) Conducting research to identify barriers to, and facilitators of, effective partnerships between State vocational rehabilitation (VR) agencies, the Social Security Administration, State and local mental health programs, and consumer-directed programs, and collaborating with these entities to develop new models for effective partnerships.

(3) Developing, testing, and validating adaptations of evidence-based interventions to enhance the effectiveness of those interventions for individuals from traditionally underserved groups (e.g., individuals from diverse racial, ethnic, and linguistic backgrounds, and geographic areas, and individuals with multiple disabilities). Current evidence-based approaches include but are not limited to supported employment.

(b) Increased incorporation of research findings related to employment and psychiatric disability into practice or policy. The RRTC must contribute to this outcome by coordinating with appropriate NIDRR-funded knowledge translation grantees to advance their work in the following areas:

(1) Developing, evaluating, or implementing strategies to increase utilization of research findings related to employment and psychiatric disability.

(2) Conducting training, technical assistance, and dissemination activities to increase utilization of research findings related to employment and psychiatric disability.

In addition to contributing to these outcomes, the RRTC must:

• Collaborate with state VR agencies and other stakeholder groups (e.g., consumers, families, advocates, clinicians, policymakers, training programs, employer groups, and researchers) in conducting the work of the RRTC. Research partners in this collaboration must include, but are not limited to, the NIDRR-funded RRTC for Vocational Rehabilitation Research, the Disability Rehabilitation Research Project on Innovative Knowledge Dissemination and Utilization for Disability and Professional Organizations and Stakeholders, and other relevant NIDRR grantees.

Priority 2—Transition-Age Youth and Young Adults With Serious Mental Health Conditions

The Assistant Secretary for Special Education and Rehabilitative Services announces a priority for a Rehabilitation Research and Training Center (RRTC) on Transition-Age Youth and Young Adults with Serious Mental Health Conditions (SMHC). This RRTC must conduct research that contributes to improved transition outcomes for youth and young adults with SMHC, including youth and young adults with SMHC from high-risk, disadvantaged backgrounds. The research conducted by this RRTC must focus on family and consumer-guided care. For purposes of this priority, the term “youth and young adults with SMHC” refers to individuals between the ages of 14 and 30, inclusive, who have been diagnosed with either serious emotional disturbance (for individuals under the age of 18 years) or serious mental illness (for those 18 years of age or older). Under this priority, the RRTC must contribute to the following outcomes:

(a) Improved and developmentally appropriate interventions for youth and young adults with SMHC. The RRTC must contribute to this outcome by identifying or developing, and evaluating, innovative interventions that meet the needs of youth and young adults with SMHC using scientifically based research (as this term is defined in section 9101(37) of the Elementary and Secondary Education Act of 1965, as amended). In carrying out this research, the RRTC must utilize recovery-based outcome measures, including improved employment, education, and community integration, among youth and young adults with SMHC. The RRTC must involve youth and young adults with SMHC, and their families or family surrogates, in the processes of identifying or developing, and evaluating, interventions.

(b) New knowledge about interventions for youth and young adults with SMHC who are from disadvantaged backgrounds (e.g., backgrounds involving foster care, poverty, abuse, or substance abuse). The RRTC must contribute to this outcome by conducting scientifically based research to identify or develop, and evaluate effective interventions, for these at-risk youth and young adults with SMHC.

(c) Improved coordination between child and adult mental health services. The RRTC must contribute to this outcome by conducting research to identify and evaluate innovative approaches that address financial, policy, and other barriers to smooth system integration between the child and adult mental health service systems.

(d) Improved capacity building for service providers. The RRTC must provide training and technical assistance with a particular emphasis on graduate, pre-service, and in-service training and curriculum development designed to prepare direct service providers for work with youth and young adults with SMHC.

(e) Increased translation of findings into practice or policy. The RRTC must contribute to this outcome by coordinating with the RRTC on Vocational Rehabilitation and with appropriate NIDRR-funded knowledge translation grantees to—

(1) Collaborate with State VR agencies and other stakeholder groups (e.g., State educational agencies, youth and young adults with SMHC, families, family surrogates, and clinicians) to develop, evaluate, or implement strategies to increase utilization of findings in programs targeted to youth and young adults with SMHC; and

(2) Conduct dissemination activities to increase utilization of the RRTC's findings.

Priority 3—Improving Measurement of Medical Rehabilitation Outcomes

The Assistant Secretary for Special Education and Rehabilitative Services announces a priority for a Rehabilitation Research and Training Center (RRTC) on Measurement of Medical Rehabilitation Outcomes. This RRTC must create and implement state-of-the-art measures for medical rehabilitation outcomes and identify the cognitive and environmental factors that shape those outcomes. Under this priority, the RRTC must be designed to contribute to the following outcomes:

(a) New tools and measures that facilitate research to promote improved clinical practice in the field of medical rehabilitation. The RRTC must contribute to this outcome by developing valid and reliable measures of cognitive function for individuals who receive post-acute medical rehabilitation, as well as measures to assess environmental factors that affect outcomes among individuals with disabilities living in the community. The RRTC may also develop medical rehabilitation outcome measures in other areas where a demonstrated need has been identified in the literature. In order to promote efficient collection of outcomes data, this RRTC must develop and apply data collection strategies for newly developed measures. These strategies must include, but are not limited to, item response theory and computer adaptive testing techniques, as appropriate. Measures developed by the RRTC must be designed to improve the capacity of researchers and practitioners to measure medical rehabilitation outcomes in a wide variety of settings and across disability groups.

(b) Improved capacity to conduct rigorous medical rehabilitation outcomes research. The RRTC must contribute to this capacity by providing a coordinated and advanced program of training in medical rehabilitation research that is aimed at increasing the number of qualified researchers working in the area of medical rehabilitation outcomes research. This program must focus on research methodology and outcomes measurement development, provide for experience in conducting applied research, and, where appropriate, include multidisciplinary approaches from a broad range of professions and interests.

(c) Collaboration with relevant projects, including NIDRR-sponsored projects, such as the Disability Rehabilitation Research Project on Classification and Measurement of Medical Rehabilitation Interventions, and other projects identified through consultation with the NIDRR project officer.

Priority 4—Developing Strategies To Foster Community Integration and Participation for Individuals With Traumatic Brain Injury

The Assistant Secretary for Special Education and Rehabilitative Services announces a priority for a Rehabilitation Research and Training Center (RRTC) for Developing Strategies to Foster Community Integration and Participation (CIP) for Individuals with Traumatic Brain Injury (TBI). This RRTC must conduct rigorous research to examine barriers to and facilitators of CIP for individuals with TBI; provide training and technical assistance to promote and maximize the benefits of this research; develop and validate a symptom-based, clinically and scientifically useful system for classifying individuals with TBI after discharge from inpatient medical or rehabilitative care; and develop, implement, and evaluate interventions to improve long-term outcomes—including return to work—for individuals with TBI. Under this priority, the RRTC must be designed to contribute to the following outcomes:

(a) New interventions to improve the level of CIP for individuals with TBI. The RRTC must contribute to this outcome by identifying or developing, and then evaluating, specific interventions to improve the CIP of individuals with TBI, using scientifically based research methods.

(b) New knowledge about the full range of symptoms of TBI that are experienced by individuals with TBI at any time after they exit inpatient care and re-enter the community. The RRTC must contribute to this outcome by developing and empirically validating a comprehensive list of the symptoms of TBI that can exist after inpatient care and that have the potential to affect CIP, and provide or develop appropriate methods for their identification. These symptoms include, but are not limited to, the following categories: neurological; medical; cognitive; and behavioral.

(c) An improved research infrastructure for developing interventions that facilitate CIP for individuals with TBI. The RRTC must contribute to this outcome by developing a classification system based on the symptoms identified in paragraph (b) of this priority for use with individuals with TBI.

(d) Improved levels of CIP for individuals with TBI. The RRTC must contribute to this outcome by—

(1) Developing a systematic plan for widespread dissemination of informational materials related to the Center's TBI interventions research and the symptom list and associated classification system to researchers, individuals with TBI and their family members, clinical practitioners, service providers, and members of the community. The RRTC must work with its NIDRR project officer to coordinate outreach and dissemination of research findings through appropriate venues such as NIDRR's Model Systems Knowledge Translation Center, State agencies and programs that administer a range of disability services and resources, the U.S. Department of Veterans Affairs Veterans Health Administration, the U.S. Department of Defense, and related veterans' service organizations; and

(2) Establishing and maintaining mechanisms for providing technical assistance to critical stakeholders, such as researchers, consumers and their family members, clinical practitioners, service providers, and members of the community to facilitate the use of knowledge generated by the RRTC.

Rehabilitation Engineering Research Centers (RERCs)

General Requirements of RERCs

RERCs carry out research or demonstration activities in support of the Rehabilitation Act of 1973, as amended, by—

• Developing and disseminating innovative methods of applying advanced technology, scientific achievement, and psychological and social knowledge to: (a) Solve rehabilitation problems and remove environmental barriers; and (b) study and evaluate new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of innovative consumer-responsive and individual- and family-centered models for the delivery to both rural and urban areas of innovative, cost-effective rehabilitation technology services; and (b) other scientific research to assist in meeting the employment and independence needs of individuals with severe disabilities.

Each RERC must be operated by, or in collaboration with, one or more institutions of higher education or one or more nonprofit organizations.

Each RERC must provide training opportunities, in conjunction with institutions of higher education or nonprofit organizations, to assist individuals, including individuals with disabilities, to become rehabilitation technology researchers and practitioners.

Each RERC must emphasize the principles of universal design in its product research and development. Universal design is “the design of products and environments to be usable by all people, to the greatest extent possible, without the need for adaptation or specialized design” (North Carolina State University, 1997. http://www.design.ncsu.edu/cud/about_ud/udprinciplestext.htm).

Additional information on the RERCs can be found at: http://www.ed.gov/rschstat/research/pubs/index.html.

Priorities 5, 6, and 7—Rehabilitation Engineering Research Centers (RERCs) on Telerehabilitation (Priority 5), Telecommunication (Priority 6), and Cognitive Rehabilitation (Priority 7)

The Assistant Secretary for Special Education and Rehabilitative Services announces the following three priorities for the establishment of (a) An RERC on Telerehabilitation; (b) an RERC on Telecommunication; and (c) an RERC on Cognitive Rehabilitation. Within its designated priority research area, each RERC will focus on innovative technological solutions, new knowledge, and concepts that will improve the lives of individuals with disabilities.

(a) RERC on Telerehabilitation (Priority 5). Under this priority, the RERC must conduct research on and develop methods, systems, and technologies that support consultative, preventative, diagnostic and therapeutic interventions and address the barriers to successful telerehabilitation for individuals who have limited local access to comprehensive medical and rehabilitation outpatient services. The RERC must contribute to the continuing development of telerehabilitation infrastructure and architecture, conduct research and development projects on technologies that can be used to deliver telerehabilitation services, address the barriers to successful telerehabilitation to individuals who have limited access to rehabilitation services, participate in the development of telerehabilitation standards, and contribute, by means of research and development, to the use of telerehabilitation on a larger scale.

(b) RERC on Telecommunication (Priority 6). Under this priority, the RERC must research and develop technological solutions to promote universal access to telecommunications systems and products, including strategies for integrating current accessibility features into newer generations of telecommunications systems and products. The RERC must contribute to the continuing development of interoperable telecommunications systems, items, and assistive technologies; conduct research and development projects that enable access to emerging telecommunications technologies; address the barriers to successful telecommunication, including emergency communications access; and participate in the development of telecommunications standards.

(c) RERC on Cognitive Rehabilitation (Priority 7). Under this priority, the RERC must research and develop methods, systems, and technologies that will improve: Existing assistive technology for cognition; the integration of assistive technology for cognition into assistive technology design; and the application of this technology in vocational rehabilitation settings, career development programs, postsecondary education facilities, and places of work. The RERC must contribute to the development and testing of assistive technology products that enhance cognitive functions needed to perform daily tasks and activities at home, school, work, and in the community; and to the development, testing, and implementation of cognitive assistive technology training programs and materials for professional use as well as for consumer use.

RERC Requirements

Under each priority, the RERC must be designed to contribute to the following outcomes:

(1) Increased technical and scientific knowledge base relevant to its designated priority research area. The RERC must contribute to this outcome by conducting high-quality, rigorous research and development projects.

(2) Innovative technologies, products, environments, performance guidelines, and monitoring and assessment tools applicable to its designated priority research area. The RERC must contribute to this outcome through the development and testing of these innovations.

(3) Improved research capacity in its designated priority research area. The RERC must contribute to this outcome by collaborating with the relevant industry, professional associations, and institutions of higher education.

(4) Improved focus on cutting edge developments in technologies within its designated priority research area. The RERC must contribute to this outcome by identifying and communicating with NIDRR and the field regarding trends and evolving product concepts related to its designated priority research area.

(5) Increased impact of research in the designated priority research area. The RERC must contribute to this outcome by providing technical assistance to public and private organizations, individuals with disabilities, and employers on policies, guidelines, and standards related to its designated priority research area.

(6) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Have the capability to design, build, and test prototype devices and assist in the transfer of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research (NCDDR), a plan to disseminate its research results to individuals with disabilities, their representatives, disability organizations, service providers, professional journals, manufacturers, and other interested parties;

• Conduct a state-of-the-science conference on its designated priority research area in the fourth year of the project period, and publish a comprehensive report on the final outcomes of the conference in the fifth year of the project period; and

• Coordinate research projects with other relevant projects, including NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Note: This notice does not solicit applications. In any year in which we choose to use these priorities, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priorities justify the costs.

We have determined, also, that this final regulatory action does not unduly interfere with State, local, and tribal governments in the exercise of their governmental functions.

Summary of Potential Costs and Benefits

The benefits of the RRTC and RERC programs have been well established over the years in that other RRTC and RERC projects have been completed successfully. The priorities announced in this notice will generate new knowledge through research, dissemination, utilization, and technical assistance.

Another benefit of these final priorities is that establishing new RRTCs and RERCs will improve the lives of individuals with disabilities. These new RRTCs and RERCs will generate, disseminate, and promote the use of new information that will improve the options for individuals with disabilities to achieve improved education, employment, and independent living outcomes.

Accessible Format: Individuals with disabilities can obtain this document in an accessible format (e.g., braille, large print, audiotape, or computer diskette) by contacting the Grants and Contracts Services Team, U.S. Department of Education, 400 Maryland Avenue, SW., room 5075, Potomac Center Plaza, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services, to perform the functions of the Assistant Secretary for Special Education and Rehabilitative Services.

Dated: July 23, 2009.
Andrew J. Pepin,
Executive Administrator for Special Education and Rehabilitative Services.

[FR Doc. E9-17924 Filed 7-27-09; 8:45 am]

BILLING CODE 4000-01-P